DEPARTMENT OF LABOR

Employment and Training Administration

[TA-W-81,846; TA-W-81,846A; TA-W-81,846B; TA-W-81,846C; TA-W-81,846D]

Goodman Networks, Inc. Core Network Engineering (Deployment Engineering) Division Alpharetta, GA; Goodman Networks, Inc. Core Network Engineering (Deployment Engineering) Division Hunt Valley, MD; Goodman Networks, Inc. Core Network Engineering (Deployment Engineering) Division Naperville, IL; Goodman Networks, Inc. Core Network Engineering (Deployment Engineering) Division St. Louis, MO; Goodman Networks, Inc. Core Network Engineering (Deployment Engineering) Division Plano, TX; Notice of Affirmative Determination Regarding Application for Reconsideration

By application dated October 26, 2012, a worker requested administrative reconsideration of the negative determination regarding workers' eligibility to apply for Trade Adjustment Assistance (TAA) applicable to workers and former workers of Goodman Networks, Inc., Core Network Engineering (Deployment Engineering) Division, Alpharetta, Georgia (TA-W-81,846), Goodman Networks, Inc., Core Network Engineering (Deployment Engineering) Division, Hunt Valley, Maryland (TA-W-81,846A), Goodman Networks, Inc., Core Network Engineering (Deployment Engineering) Division, Naperville, Illinois (TA-W-81,846B), Goodman Networks, Inc., Core Network Engineering (Deployment Engineering) Division, St. Louis, Missouri (TA-W-81,846C), and Goodman Networks, Inc., Core Network Engineering (Deployment Engineering) Division, Plano, Texas (TA-W-81,846D). The determination was issued on September 28, 2012.

Workers at the subject firm are engaged in activities related to the supply of services of installation specification writing and maintenance customer record drawings for the installation of telecom equipment.

The initial investigation resulted in a negative determination based on the findings that, with respect to Section 222(a)(2)(A)(ii) of the Act, the firm and customers did not import services like or directly competitive with the services provided by the subject firm.

With respect to Section 222(a)(2)(B) of the Act, the investigation revealed that the subject firm did not shift the supply of services of installation specification writing and maintenance customer record drawings for the installation of telecom equipment, or a like or directly competitive service, to a foreign country or acquire the supply of services of installation specification writing and maintenance customer record drawings for the installation of telecom equipment, or a like or directly competitive service, from a foreign country.

With respect to Section 222(b)(2) of the Act, the investigation revealed that the subject firm is not a Supplier to a firm that employed a group of workers who received a certification of eligibility under Section 222(a) of the Act, 19 U.S.C. 2272(a).

With respect to Section 222(b)(2) of the Act, the investigation revealed that Goodman does not act as a Downstream Producer to a firm (subdivision, whichever is applicable) that employed a group of workers who received a certification of eligibility under Section 222(a) of the Act, 19 U.S.C. 2272(a).

Finally, the group eligibility requirements under Section 222(e) of the Act, have not been satisfied since the workers' firm has not been publically identified by name by the International Trade Commission as a member of a domestic industry in an investigation resulting in an affirmative finding of serious injury, market disruption, or material injury, or threat thereof.

The request for reconsideration included information regarding a possible shift in the supply of services to a foreign country.

The Department has carefully reviewed the request for reconsideration and the existing record, and will conduct further investigation to clarify the subject worker group and to determine if workers have met the eligibility requirements of the Trade Act of 1974, as amended.

Conclusion

After careful review of the application, I conclude that the claim is of sufficient weight to justify reconsideration of the U.S. Department of Labor's prior decision. The application is, therefore, granted.

Signed at Washington, DC, this 12th day of December 2012.
Elliott S. Kushner,
Certifying Officer, Office of Trade Adjustment Assistance.

[FR Doc. 2012-31659 Filed 1-3-13; 8:45 am]

BILLING CODE 4510-FN-P